DEPARTMENT OF LABOR

Employment and Training Administration

[TA-W-51,509]

Alpha Omega Jet Services, Inc., Sulphur Springs, TX; Notice of Termination of Investigation

Pursuant to section 221 of the Trade Act of 1974, as amended, an investigation was initiated on February 26, 2003 in response to a worker petition filed by a company official on behalf of workers at Alpha Omega Jet Services, Inc., Sulphur Springs, Texas.

The petitioner has requested that the petition be withdrawn. Consequently, the investigation has been terminated.

Signed at Washington, DC, this 22nd day of April, 2003.
Elliott S. Kushner,
Certifying Officer, Division of Trade Adjustment Assistance.

[FR Doc. 03-11551 Filed 5-8-03; 8:45 am]

BILLING CODE 4510-30-P